DEPARTMENT OF HEALTH AND HUMAN SERVICES

National Toxicology Program (NTP); Report on Carcinogens; Request for Nominations of Scientific Experts for Review of Candidate Substances for the 12th Report on Carcinogens

AGENCY: National Institute of Environmental Health Sciences (NIEHS), National Institutes of Health (NIH).

ACTION: Request for nominations of scientific experts.

SUMMARY: On April 16, 2007, NTP released the final review process for preparation of the 12th Report on Carcinogens (RoC, 72FR18999, available at http://ntp.niehs.nih.gov/go/9732). This notice invites the public to nominate scientists to serve on expert panels. These scientists should have expertise and/or knowledge relevant to evaluation of the potential carcinogenic hazard of the candidate substances that will undergo review for the 12th RoC.

DATES: Nominations of scientific experts received by June 8, 2007.

ADDRESSES: Nominations should be sent to Dr. C. W. Jameson, Report on Carcinogens (NIEHS, P.O Box 12233, MD EC-17, Research Triangle Park, NC 27709; fax: (919) 541-0144, e-mail: jameson@niehs.nih.gov. Courier address: Report on Carcinogens, NIEHS, 79 Alexander Drive, Building 4401, Room 3118, Research Triangle Park, NC 27709).

FOR FURTHER INFORMATION CONTACT: Dr. C. W. Jameson, telephone: (919) 541-4096 or jameson@niehs.nih.gov.

SUPPLEMENTARY INFORMATION:

Request for Nominations of Scientific Experts

The review process for preparation of the 12th RoC is available on the NTP RoC Web site (http://ntp.niehs.nih.gov/go/15208). The process includes development of a draft background document for each candidate substance undergoing review for the 12th RoC. The NTP will convene an ad hoc expert panel to peer review the draft background document at a public meeting and make a recommendation to the NTP on the candidate substance's listing status for the RoC. The NTP invites the public to nominate scientists to serve on the expert panels who have expertise and/or knowledge relevant to the evaluation of carcinogenicity for the candidate substances (listed below). Relevant areas of expertise and/or knowledge include, for example, biostatistics, carcinogenesis, chemistry, epidemiology, exposure assessment, molecular biology, pathology, toxicokinetics, and toxicology. Scientists nominated in response to a previous notice (70FR60548), which sought names of scientists to write and/or review background documents, will also be considered as potential candidates for the expert panels.

Each nomination should include contact information for the nominee [name, affiliation (if any), address, telephone, fax, and e-mail], the candidate substance(s) for which they have relevant expertise and/or knowledge, and a complete curriculum vitae. Final selection of individuals to serve on these panels will be made in accordance with the Federal Advisory Committee Act and Department of Health and Human Services implementing regulations. Previously, NTP sought input on substances nominated for possible review for the 12th RoC (69FR28940, 69FR62276, and 70FR60548). The 14 candidate substances selected for review for the 12th RoC are listed below. Information on these candidate substances is available on the NTP Web site for the 12th RoC (http://ntp.niehs.nih.gov/go/10091) or by contacting Dr. C. W. Jameson (see “FOR FURTHER INFORMATION CONTACT” above).

The candidate substances for the 12th RoC are:

• Aristolochic acid-related exposures:

(1) Botanical products containing aristolochic acid

(2) Aristolochic acid

• Captafol

• Cobalt-tungsten carbide powders and hard metals

• Di (2-ethylhexyl) phthalate

• Selected DNA topoisomerase II inhibitors:

(1) Etoposide

(2) Etoposide in combination with cisplatin and bleomycin

(3) Teniposide

• Formaldehyde

• Glass wool fibers (certain)

• Metalworking fluids

• ortho-Nitrotoluene

• Riddelliine

• Styrene

Background Information on the Report on Carcinogens

The RoC is a congressionally mandated document [Section 301(b)(4) of the Public Health Services Act, 42 U.S.C. 241(b)(4)], approved by the Secretary of Health and Human Services (HHS), that identifies agents, substances, mixtures, or exposure circumstances (collectively referred to as “substances”) that may pose a carcinogenic hazard to human health. The Secretary, HHS, delegated responsibility for preparing the report to the NTP. Substances are listed in the RoC as either known to be human carcinogens or reasonably anticipated to be human carcinogens. Publication of the RoC is the end result of an extensive scientific review and assessment process with multiple opportunities for public comment

The NTP solicits and encourages the broadest participation from interested individuals or parties in nominating agents, substances, mixtures, or exposure circumstances for review for future RoCs. Nominations should contain a rationale for review. Appropriate background information and relevant data [e.g., journal articles, NTP Technical Reports, International Agency for Research on Cancer (IARC) listings, exposure surveys, release inventories, etc.] that support a nomination should be provided or referenced when possible. Contact information for the nominator should also be included [name, affiliation (if any), address, telephone, fax, and e-mail].

Dated: April 30, 2007.
Samuel H. Wilson,
Deputy Director, National Institute of Environmental Health Sciences and National Toxicology Program.

[FR Doc. E7-8899 Filed 5-8-07; 8:45 am]

BILLING CODE 4140-01-P